DEPARTMENT OF ENERGY

Federal Energy Regulatory Commission

[Docket No. IC20-25-000]

Commission Information Collection Activities (Ferc-717); Comment Request; Extension

AGENCY: Federal Energy Regulatory Commission, Department of Energy.

ACTION: Notice of extension information collection and request for comments.

SUMMARY: In compliance with the requirements of the Paperwork Reduction Act of 1995, the Federal Energy Regulatory Commission (Commission or FERC) is soliciting public comment on the extension to the information collection, FERC-717 (Standards for Business Practices and Communication Protocols for Public Utilities), which will be submitted to the Office of Management and Budget (OMB) for review.

DATES: Comments on the collection of information are due December 21, 2020.

ADDRESSES: Send written comments on the information collections to OMB through www.reginfo.gov/public/do/PRAMain. Attention: Federal Energy Regulatory Commission Desk Officer. Please identify the OMB Control Number (1902-0173) in the subject line of your comments. Comments should be sent within 30 days of publication of this notice to www.reginfo.gov/public/do/PRAMain.

A copy of the comments should also be sent to the Commission, in Docket No. IC20-25-000, by any of the following methods:

• eFiling at Commission's Website: http://www.ferc.gov/docs-filing/efiling.asp.

• U.S. Postal Service Mail: Persons unable to file electronically may mail similar pleadings to the Federal Energy Regulatory Commission, 888 First Street NE, Washington, DC 20426.

• Effective July 1, 2020, delivery of filings other than by eFiling or the U.S. Postal Service should be delivered to Health and Human Services, 12225 Wilkins Avenue, Rockville, Maryland 20852.

Instructions:

OMB submissions must be formatted and filed in accordance with submission guidelines at www.reginfo.gov/public/do/PRAMain. Using the search function under the Currently Under Review field, select Federal Energy Regulatory Commission; click submit, and select comment to the right of the subject collection.

FERC submissions must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, telephone at (202) 502-8663.

SUPPLEMENTARY INFORMATION: Title: FERC-717, Standards for Business Practices and Communication Protocols for Public Utilities.

OMB Control No.: 1902-0173.

Type of Request: Three-year approval of the FERC-717 information collection requirements with no changes to the current reporting requirements.¹

¹ This notice does not address the NOPR for RM05-29 and RM05-30.

Abstract: This notice pertains to a requirement that Tranmission Providers ² provide certain information regarding their transmission operations on an Open Access Same-Time Information System (OASIS). This requirement was established because the Commission has determined that Transmission Customers ³ must have simultaneous access to the same information available to the Transmission Provider in order to receive nondiscriminatory transmission services in accordance with section 205 of the Federal Power Act.⁴

² Under 18 CFR 37.3(a), a Transmission Provider is any public utility that owns, operates, or controls facilities used for the transmission of electric energy in interstate commerce.

³ Under 18 CFR 37.3(b), a Transmission Customer is any eligible customer (or its designated agent) that can or does execute a gtransmission service agreement or can or does receive transmission service.

⁴ 16 U.S.C. 824d.

Regulations at 18 CFR part 37 authorize Transmission Providers to operate an OASIS either individually or jointly with other Transmission Providers. Thse regulations also provide that a Transmission Provider may delegate this responsibility to a Responsible Party ⁵ such as another Transmission Provider, an Independent System Operator, a Regional Tranmission Group, or a Regional Reliability Council.

⁵ Under 18 CFR 37.3(c), a Responsible Party is a Transmission Provider or an agent to whom the Transmission Provider has delegated the responsibility of meeting any of the requirements of 18 CFR part 37.

The information that must be posted at OASIS sites is listed at 18 CFR 37.6. The required postings include business practices, communication protocols, transfer capacity, transmission service products, and prices. Some of the required business practices and communication protocols are incorporated by reference at 18 CFR 38.1.

The 60-day notice was published on September 14, 2020 (85 FR 56595) and no comments were received during the comment period.

Type of Respondents: Transmission Providers and Responsible Parties.

Estimate of Annual Burden: ⁶ The Commission's burden estimate accounts for the likely double-counting of responses in previous information collection requests, which did not recognize that a Transmission Provider may operate an OASIS site jointly with another Transmission Provider, or may delegate the relevant responsibilities to a Responsible Party. The responses submitted at present are our best estimate.

⁶ Burden is defined as the total time, effort, or financial resources expended by persons to generate, maintain, retain, or disclose or provide information to or for a Federal agency. For further explanation of what is included in the information collection burden, refer to 5 CFR 1320.3.

FERC-717, Standards for Business Practices and Communication Protocols for Public Utilities ⁷
Information collection requirements | Number of respondents | Annual number of responses per respondent | Total number of responses | Average burden hours & cost per response ⁸ | Total annual burden hours & total annual cost
| (1) | (2) | (1) * (2) = (3) | (4) | (3) * (4) = (5)
FERC-717 (renewal) | 162 | 1 | 162 | 30 hrs.; $2,490 | 4,860 hrs.; $403,380
FERC-717 (compliance with standards, one-time burden) ⁹ | 165 | 1 | 165 | 10 hrs.; ¹⁰ $830 | 1,650 hrs.; $136,950
Total |  |  | 327 |  | 6,510 hrs.; $540,330

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁷ This collection includes the one-time burden of 10 hrs. (over a 3 year period of time) for the Final Rule RM05-25,05-26,05-27 [ICR Reference No: 202002-1902-006] and will not affect the NOPR RM05-5-29, 05-30 issued in the Federal Register on 9/04/2020 and has not been submitted to OMB to date.

⁸ The Commission staff thinks that the average respondent for this collection is similarly situated to the Commission, in terms of salary plus benefits. Based upon FERC's FY 2020 annual average of $172,329, (for salary plus benefits), the average hourly cost is $83/hour.

⁹ FERC-717 corresponds to OMB Control No. 1902-0173 that identifies the information collection associated with Standards for Business Practices and Communication Protocols for Public Utilities.

¹⁰ The 30-hour estimate was developed in the Final Rule in Docket No. RM05-5-025, -026, and -027 (Order 676-I), which was issued on 2/4/2020 and published in the Federal Register on 2/25/2020 (85 FR 10571 (FERC-717, 165 * 30 = 4,950 hrs./3 = 1,650 hrs./year)

Dated: November 16, 2020.
Nathaniel J. Davis, Sr.,
Deputy Secretary.

[FR Doc. 2020-25676 Filed 11-19-20; 8:45 am]

BILLING CODE 6717-01-P